DEPARTMENT OF COMMERCE

National Oceanic and Atmospheric Administration

RIN 0648-XF223

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the Advisory Panel Selection Committee (Closed Session); Southeast Data, Assessment and Review (SEDAR) Committee; Protected Resources Committee; Spiny Lobster Committee; Habitat Protection and Ecosystem-Based Management Committee; Dolphin Wahoo Committee; Snapper Grouper Committee; Mackerel Cobia Committee; Citizen Science Committee; and Executive Finance Committee. There will also be a meeting of the full Council. The Council will take action as necessary. The Council will also hold a formal public comment session.

DATES: The Council meeting will be held from 8:30 a.m. on Monday, March 6, 2017 until 12 p.m. on Friday, March 10, 2017.

ADDRESSES:

Meeting address: The meeting will be held at the Westin Jekyll Island, 110 Ocean Way, Jekyll Island, GA 31527; phone: (888) 627-8316 or (912) 635-4545; fax: (912) 319-2838.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net. Meeting information is available from the Council's Web site at: http://safmc.net/meetings/council-meetings/.

SUPPLEMENTARY INFORMATION: Public comment: Written comments may be directed to Gregg Waugh, Executive Director, South Atlantic Fishery Management Council (see Council address) or electronically via the Council's Web site at: http://safmc.net/safmc-meetings/council-meetings/safmc-meeting-march2017/. The public comment form is open for use when the briefing book is posted to the Web site on the Friday, two weeks prior to the Council meeting. Comments received by close of business the Monday before the meeting (February 27, 2017) will be compiled, posted to the Web site as part of the meeting materials, and included in the administrative record; please use the Council's online form available from the Web site. For written comments received after the Monday before the meeting (after 2/27), individuals sending the comment must use the Council's online form available from the Web site. Comments will automatically be posted to the Web site and available for Council consideration. Comments received prior to noon on Thursday, March 9, 2017 will be a part of the meeting administrative record.

The items of discussion in the individual meeting agendas are as follows:

Advisory Panel Selection Committee (Closed Session), Monday, March 6, 2017, 8:30 a.m. Until 10 a.m.

The Committee will review applications for open advisory panel seats and provide recommendations.

SEDAR Committee, Monday, March 6, 2017, 10 a.m. Until 11 a.m.

1. The Committee will receive an update on SEDAR projects including the status of on-going projects, discuss long-term assessment priorities, and review the NOAA Fisheries Prioritization Tool application and take action as necessary.

2. The Committee will also discuss 2020 preliminary assessment priorities and the Research Track process for conducting stock assessments and provide guidance for consideration by the SEDAR Steering Committee.

Protected Resources Committee, Monday March 6, 2017, 11 a.m. Until 12 p.m.

The Committee will receive an update from NOAA Fisheries Protected Resources Office, an update on the Atlantic States Marine Fisheries Commission's (ASMFC) Atlantic Sturgeon stock assessment, and an update from the U.S. Fish and Wildlife Service and take action as necessary.

Spiny Lobster Committee, Monday, March 6, 2017, 1:30 p.m. Until 2:30 p.m.

The Committee will review Spiny Lobster Regulatory Amendment 4 addressing management parameters including Acceptable Biological Catch (ABC) and annual catch limits (ACLs), and the use of traps to recreationally harvest spiny lobster. The Committee will provide recommendations for approving the amendment for public hearing.

Habitat Protection and Ecosystem-Based Management Committee, Monday, March 6, 2017, 2:30 Until 5 p.m.

1. The Committee will review the Council's Fishery Ecosystem Plan II sections and provide direction to staff.

2. The Committee will receive an update on the Habitat and Ecosystem Tools and Model Development, Council actions pertaining to Habitat, and the South Atlantic Regional Climate Action Plan, and provide recommendations as appropriate.

Dolphin Wahoo Committee, Tuesday, March 7, 2017, 8:30 a.m. Until 11 a.m.

1. The Committee will receive updates from NOAA Fisheries on commercial catches versus quota for dolphin and wahoo and take action as necessary.

2. The Committee will review Dolphin Wahoo Amendment 10 addressing the definition of Optimum Yield, quota sharing, operator card requirements, and allowable gear for the dolphin fishery and provide recommendations as appropriate.

Snapper Grouper Committee, Tuesday, March 7, 2017, 11 a.m. Until 5 p.m. and Wednesday, March 8, 2017 From 8:30 a.m. Until 3:30 p.m.

1. The Committee will receive updates from NOAA Fisheries on commercial catches versus quotas for species under ACLs and the status of amendments under formal Secretarial review and take action as necessary. The Committee will also discuss guidance on re-opening a fishery when the landings are close to the annual catch limits (ACLs) and take action as necessary.

2. The Committee will review public scoping comments for Vision Blueprint Regulatory Amendment 26 addressing recreational management options and Vision Blueprint Regulatory Amendment 27 addressing commercial management options, modify the documents as necessary and provide guidance to staff.

3. The Committee will receive overviews regarding discards for red snapper and southeast barotrauma workshops, review public scoping comments for Snapper Grouper Amendment 43 addressing management options for red snapper and recreational reporting, modify the document as necessary, and provide direction to staff.

4. The Committee will review public hearing comments for Snapper Grouper Amendment 44 addressing allocation measures for yellowtail snapper, modify the document as necessary, and provide direction to staff.

5. The Committee will receive projection results from NOAA Fisheries Southeast Fisheries Science Center for golden tilefish, discuss Snapper Grouper Amendment 45 addressing management measures for golden tilefish, and provide direction to staff.

6. The Committee will review a white paper on Limited Entry for the Snapper Grouper For-Hire fishery, discuss, and provide direction to staff.

Mackerel Cobia Committee, Wednesday, March 8, 2017, 3:30 p.m. Until 4:30 p.m. and Thursday, March 9, 2017, 8 a.m. Until 9 a.m.

1. The Committee will receive an update on ASMFC's development of the Interstate Fishery Management Plan for Cobia, receive an update from NOAA Fisheries on the 2017 recreational fishing season for cobia in federal waters, and updates on state regulation and management measures for cobia in 2017, and take action as necessary.

2. The Committee will receive status updates from NOAA Fisheries on commercial catches versus quotas for species under ACLs and amendments currently under Secretarial review and take action as necessary.

3. The Committee will discuss tracking CMP landings in a common unit and take action as necessary.

4. The Committee will receive a report on the Gulf of Mexico Fishery Management Council's January/February 2017 meeting.

5. The Committee will receive an overview of Amendment 29 to the Coastal Migratory Pelagic (CMP) Fishery Management Plan for the Gulf of Mexico and South Atlantic Region addressing allocations of Gulf Group king mackerel, modify as necessary, and provide recommendations to approve/disapprove the amendment for formal Secretarial Review.

6. The Committee will also provide direction to staff for agenda items for the spring meeting of the Council's Mackerel Cobia Advisory Panel and Cobia Sub-panel.

Formal Public Comment, Wednesday, March 8, 2017, 4:30 p.m.—Public comment will be accepted on items on the Council agenda. Comment will be accepted first on items before the Council for Secretarial approval: (1) Coastal Migratory Pelagic Amendment 29 (Gulf of Mexico king mackerel allocations); and (2) the Gulf of Mexico Fishery Management Council's For-Hire Amendment. The Council Chair, based on the number of individuals wishing to comment, will determine the amount of time provided to each commenter.

Citizen Science Committee, Thursday, March 9, 2017, 9 a.m. Until 10 a.m.

The Committee will receive a program update on the Council's Citizen Science Program, review research priorities to include in the South Atlantic Research Plan, discuss, and take action as necessary.

Executive/Finance Committee, Thursday, March 9, 2017, 10 a.m. Until 12 p.m.

1. The Committee will receive a report on the February 2017 Council Coordinating Committee meeting and take action as necessary, and a final report for expenditures for Calendar Year (CY) 2016; review the Draft CY 2017 Budget and approve if budget numbers are available; and review, modify, and approve the Council Follow-up and work priorities.

2. The Committee will discuss options for an advisory panel/workgroup for the System Management Plan for the Council's managed areas and take action as necessary.

3. The Committee will discuss standards and procedures for participating in Council webinar meetings and take action as appropriate.

4. The Committee will review and discuss meeting materials provided to Council members for Council meetings and provide direction to staff.

Council Session: Thursday, March 9, 2017, 1:30 p.m. Until 5 p.m. and Friday, March 10, 2017, 8:30 a.m. Until 12 p.m. (Partially Closed Session)

The Full Council will convene beginning on Thursday afternoon with a Call to Order, announcements and introductions, and approve the December 2016 meeting minutes. The Council will receive a Legal Briefing on Litigation from NOAA General Counsel (if needed) during Closed Session. The Council will receive a report from the Executive Director, an update on the Status of the joint Council and Atlantic Coastal Cooperative Statistics Program For-Hire Electronic Logbook Pilot Project, and an overview of the Gulf Council's For-Hire Amendment and approve/disapprove the Gulf Council's amendment for formal Secretarial review.

The Council will receive presentations on the Bycatch Reporting Final Rule and status of Bycatch Collection Programs from NOAA Fisheries and take action as necessary. The Council will also receive reports on any remaining commercial catches versus ACLs, the status of the South Atlantic Council's For-Hire Amendment, and any Experimental Fishing Permits received by NMFS and take action as necessary.

The Council will receive a report from the Mackerel Cobia Committee, approve/disapprove Coastal Migratory Pelagic Amendment 29 (Gulf of Mexico king mackerel allocations) for Secretarial review, consider other Committee recommendations, and take action as appropriate.

The Council will continue to receive committee reports from the Advisory Panel Selection, SEDAR, Protected Resources, Spiny Lobster, Habitat and Ecosystem-Based Management, Dolphin Wahoo, Snapper Grouper, Citizen Science, and Executive Finance Committees, review recommendations, and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: February 9, 2017.
Tracey L. Thompson,
Acting Deputy Director, Office of Sustainable Fisheries, National Marine Fisheries Service.

[FR Doc. 2017-02930 Filed 2-13-17; 8:45 am]

BILLING CODE 3510-22-P